DEPARTMENT OF LABOR

Employment and Training Administration

[TA-W-81,145; TA-W-81,145A]

Sunoco, Inc., R&M, Refining Division, Marcus Hook, PA; Sunoco, Inc., 10 Industrial Hwy., MS4 Building G, Lester, PA; Notice of Negative Determination on Reconsideration

On April 30, 2012, the Department of Labor issued an Affirmative Determination Regarding Application for Reconsideration for the workers and former workers of Sunoco, Inc., R&M, Refining Division, Marcus Hook, Pennsylvania (TA-W-81,145), and Sunoco, Inc., Lester, Pennsylvania (TA-W-81,145A). The workers are engaged in employment related to the production of refined petroleum products. The Department's Notice was published in the Federal Register on May 17, 2012 (77 FR 29362).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that there was no increase in imports of refined petroleum products by Sunoco, Inc. or its customer, nor was there a shift in production to a foreign country or acquisition of production from a foreign country by the workers' firm. In addition, U.S. aggregate imports of like or directly competitive articles did not increase during the relevant period.

The request for reconsideration alleged that the worker separations at the subject facilities are related to increased imports of articles like or directly competitive with the refined petroleum products produced by the subject firm, and that, while the initial investigation revealed that U.S. aggregate imports of refined petroleum products decreased during the relevant period, the Department did not compare domestic production to U.S. imports of like or directly competitive articles.

Information obtained during the reconsideration investigation confirmed that there was no increase in imports by Sunoco, Inc., or its customer, nor was there a shift in production to a foreign country or acquisition of production from a foreign country by the workers' firm. In addition, additional research conducted during the reconsideration investigation revealed that U.S. aggregate imports of like or directly competitive articles did not increase relative to domestic production during the relevant period.

With respect to Section 222(a)(2)(A)(ii) of the Act, the investigation revealed no increased imports during the relevant period by the subject firm or its customers of articles like or directly competitive with those produced by the subject facilities, and no increased aggregate U.S. imports of articles like or directly competitive with refined petroleum products.

With respect to Section 222(a)(2)(B) of the Act, the investigation revealed that the workers' firm did not shift the production of refined petroleum products, or a like or directly competitive article, to a foreign county or acquire the production of refined petroleum products, or a like or directly competitive article, from a foreign county.

Conclusion

After careful review, I determine that the requirements of Section 222 of the Act, 19 U.S.C. 2272, have not been met and, therefore, deny the petition for group eligibility of Sunoco, Inc., R&M, Refining Division, Marcus Hook, Pennsylvania (TA-W-81,145), and Sunoco, Inc., Lester, Pennsylvania (TA-W-81,145A), to apply for adjustment assistance, in accordance with Section 223 of the Act, 19 U.S.C. 2273.

Signed in Washington, DC, on this 23rd day of July 2012.
Del Min Amy Chen,
Certifying Officer, Office of Trade Adjustment Assistance.

[FR Doc. 2012-18836 Filed 8-1-12; 8:45 am]

BILLING CODE 4510-FN-P